DEPARTMENT OF TRANSPORTATION

Surface Transportation Board

[STB Ex Parte No. 290 (Sub-No. 4)]

Railroad Cost Recovery Procedures—Productivity Adjustment

AGENCY: Surface Transportation Board, DOT.

ACTION: Proposed Railroad Cost Recovery Procedures Productivity Adjustment.

SUMMARY: In a decision served on February 1, 2010, we proposed to adopt 1.010 (1.0% per year) as the measure of average change in railroad productivity for the 2004-2008 (5-year) averaging period. This is a decline of 0.5 of a percentage point from the current measure of 1.5% that was developed for the 2003-2007 period. The Board's February 1, 2010 decision in this proceeding stated that comments may be filed addressing any perceived data and computational errors in our calculation. It also stated that, if there were no further action taken by the Board, the proposed productivity adjustment would become effective on March 1, 2010.

DATES: The productivity adjustment is effective March 1, 2010. Comments are due by February 22, 2010.

ADDRESSES: Send comments (an original and 10 copies) referring to STB Ex Parte No. 290 (Sub-No. 4) to: Surface Transportation Board, 395 E Street, SW., Washington, DC 20423-0001.

FOR FURTHER INFORMATION CONTACT: Michael Smith, (202) 245-0322. Federal Information Relay Service (FIRS) for the hearing impaired: 1-800-877-8339.

SUPPLEMENTARY INFORMATION: Additional information is contained in the Board's decision, which is available on our Web site at http://www.stb.dot.gov. Copies of the decision may be purchased by contacting the Board's Office of Public Assistance, Governmental Affairs, and Compliance at (202) 245-0235. Assistance for the hearing impaired is available through FIRS at 1-800-877-8339.

This action will not significantly affect either the quality of the human environment or the conservation of energy resources.

Decided: January 26, 2010.
By the Board, Chairman Elliott, Vice Chairman Mulvey, and Commissioner Nottingham.
Jeffrey Herzig,
Clearance Clerk.

[FR Doc. 2010-1993 Filed 1-29-10; 8:45 am]

BILLING CODE 4915-01-P